NUCLEAR REGULATORY COMMISSION

[Docket No.: 40-8905; NRC-2010-0326]

Notice of Availability of Environmental Assessment and Finding of No Significant Impact for License Amendment No. 61 for Rio Algom Mining LLC, Ambrosia Lake, NM—SUA-1473

AGENCY: Nuclear Regulatory Commission.

ACTION: Notice of availability.

FOR FURTHER INFORMATION CONTACT: Thomas McLaughlin, Project Manager, Materials Decommissioning Branch, Division of Waste Management and Environmental Protection, Office of Federal and State Materials and Environmental Management Programs, U.S. Nuclear Regulatory Commission, Washington, DC 20555. Telephone: (301) 415-5869; fax number: (301) 415-5369; e-mail: Thomas.McLaughlin@nrc.gov.

SUPPLEMENTARY INFORMATION:

I. Introduction

The Nuclear Regulatory Commission (NRC) is considering the issuance of a license amendment to Source Materials License SUA-1473 issued to Rio Algom Mining LLC (Rio Algom, or the Licensee) to authorize an alternate on-site disposal cell location for disposal of byproduct material at its Ambrosia Lake Mill Facility, in Ambrosia Lake, New Mexico. The NRC has prepared an Environmental Assessment (EA) for this proposed action in accordance with the requirements of 10 CFR part 51. Based on the EA, the NRC has concluded that a Finding of No Significant Impact (FONSI) is appropriate with respect to the proposed action. The amendment will be issued following the publication of this Notice.

The Licensee previously has addressed, and the NRC has approved, the remaining site-wide reclamation plan elements through separate licensing actions, including the original reclamation plan for Tailings Ponds 1, 2, and 3 Disposal Cells (approved in September 1990), mill demolition, relocation of lined evaporation pond sediments, soil decommissioning plan, and groundwater remediation. The expansion of Tailings Pond Disposal Cell 2 was approved by License Amendment No. 58. The current licensing action is to provide an alternate on-site disposal area for placing byproduct material such as mill building debris and windblown impacted soil.

II. Environmental Assessment Summary

The purpose of the proposed amendment is to authorize an alternate on-site disposal cell location at the Licensee's Ambrosia Lake Mill Facility, in Ambrosia Lake, New Mexico. By letter dated April 26, 2010, Rio Algom submitted a request to the NRC for approval of an alternate on-site disposal cell location for disposal of byproduct material.

Rio Algom proposes placing byproduct materials, consisting primarily of mill building debris and windblown impacted soils, in the former ore-storage area west of the existing mill office, and stabilizing the materials in accordance with NRC standards in 10 CFR part 40. The cover over the disposal area would consist of a radon/infiltration barrier, overlain by a frost protection layer and rock erosion protection layers. Following approval by NRC of successful remediation of the area pursuant to the Reclamation Plan, the construction will be completed and the site eventually will be transferred to DOE.

The staff, in coordination with the New Mexico Environmental Department (NMED), has prepared the EA in support of the proposed license amendment. The EA evaluates the construction of an alternate on-site disposal cell and is limited to the construction impacts as all other impacts (long-term and indirect) were previously evaluated in the Tailings Pond 2 expansion EA completed in November 2007, in connection with License Amendment No. 58.

The potential direct impacts from construction activities primarily would be dust generation due to excavating material to form the channel, noise generated by construction equipment, and water surface runoff. The staff has determined that these potential direct impacts would be sufficiently mitigated, and the potential impacts at the tailings cell area would be small as the area is already disturbed from site reclamation activities.

Three alternatives to the proposed action were considered and rejected, including: no action, increasing the capacity of disposal area #2, or selecting another disposal area at the facility.

II. Finding of No Significant Impact

Based on the analysis contained in this EA, the staff concluded that there are no significant environmental impacts from the proposed action, and that the preparation of an Environmental Impact Statement is not warranted. Accordingly, the NRC determined that a Finding of No Significant Impact is appropriate.

III. Further Information

Documents related to this action, including the application for amendment and supporting documentation, are available electronically at the NRC's Electronic Reading Room at http://www.nrc.gov/reading-rm/adams.html. From this site, you can access the NRC's Agencywide Document Access and Management System (ADAMS), which provides text and image files of NRC's public documents. The ADAMS accession numbers for the documents related to this notice are: the Licensee's license amendment request and environmental evaluation dated April 26, 2010 (ADAMS ML101190534); the October 1, 2010, EA for License Amendment No. 61 (the alternate on-site disposal cell location) (ADAMS ML102220253); Approval for License Amendment No. 58 (ADAMS ML073050328); and the November 2007, EA for Tailings Pond 2 (ADAMS ML072670278). If you do not have access to ADAMS or if there are problems in accessing the documents located in ADAMS, contact the NRC Public Document Room (PDR) Reference staff at 1-800-397-4209, 301-415-4737 or by e-mail to pdr.resource@nrc.gov.

These documents may also be viewed electronically on the public computers located at the NRC's PDR, O 1 F21, One White Flint North, 11555 Rockville Pike, Rockville, Maryland, 20852. The PDR reproduction contractor will copy documents for a fee.

Dated at Rockville, Maryland, this 7th day of October, 2010.
For the Nuclear Regulatory Commission.
Keith I. McConnell,
Deputy Director, Decommissioning and Uranium Recovery Licensing Directorate, Division of Waste Management and Environmental Protection, Office of Federal and State Materials and Environmental Management Programs.

[FR Doc. 2010-25996 Filed 10-14-10; 8:45 am]

BILLING CODE 7590-01-P